FEDERAL COMMUNICATIONS COMMISSION

47 CFR Parts 61 and 69

[WC Docket Nos. 10-90, 07-135, 05-337, 03-109; GN Docket No. 09-51, CC Docket Nos. 01-92, 96-45, WT Docket No. 10-208, FCC 11-161]

Connect America Fund; Developing a Unified Intercarrier Compensation Regime

AGENCY: Federal Communications Commission.

ACTION: Final rule; announcement of effective date.

SUMMARY: In this document, the Commission announces that the Office of Management and Budget (OMB) has approved, for a period of three years, the information collection associated with the Commission's Connect America Fund, Report and Order (Order)'s access stimulation rules. This notice is consistent with the Order, which stated that the Commission would publish a document in the Federal Register announcing the effective date of those rules. The Commission received OMB pre-approval for the proposed requirements on April 19, 2011 and final approval for the final requirements on December 1, 2011. Therefore, the information collection requirements were adopted as proposed.

DATES: The amendments to 47 CFR 61.3, 61.26, 61.39, and 69.3 published at 76 FR 73830, November 29, 2011, are effective December 29, 2011.

FOR FURTHER INFORMATION CONTACT: John Hunter, Pricing Policy Division, Wireline Competition Bureau, at (202) 418-1520, or email: john.hunter@fcc.gov.

SUPPLEMENTARY INFORMATION: This document announces that, on April 19, 2011 (preapproval) and on December 1, 2011 (final approval), OMB approved, for a period of three years, the information collection requirements relating to the access stimulation rules contained in the Commission's Order, FCC 11-161, published at 76 FR 73830, November 29, 2011. The OMB Control Number is 3060-0298. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-0298, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB pre-approval on April 19, 2011, for the information collection requirements contained in the proposed modifications to the Commission's rules in 47 CFR parts 61 and 69.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0298.

The foregoing notice is required by the Paperwork Reduction Act of 1995, Public Law 104-13, October 1, 1995, and 44 U.S.C. 3507.

The total annual reporting burdens and costs for the respondents are as follows:

OMB Control Number: 3060-0298.

OMB Approval Dates: April 19, 2011 and December 1, 2011.

OMB Expiration Date: June 30, 2014.

Title: Part 61, Tariffs (Other than Tariff Review Plan).

Form Number: N/A.

Respondents: Business or other for-profit entities.

Number of Respondents and Responses: 630 respondents; 1,210 responses.

Estimated Time per Response: 50 hours.

Frequency of Response: One-time, biennial and on-occasion reporting requirements.

Obligation to Respond: Required to obtain or retain benefits. The statutory authority for this information collection is contained in sections 1-5, 201-205, 208, 251-271, 403, 502, and 503 of the Communications Act of 1934, as amended, 47 U.S.C. 151-155, 201-205, 208, 251-271, 403, 502 and 503.

Total Annual Burden: 63,000 hours.

Total Annual Cost: $986,150.

Nature and Extent of Confidentiality: An assurance of confidentiality is not offered because this information collection does not require the collection of personally identifiable information (PII) from individuals.

Needs and Uses: Sections 201, 202, 203, 204 and 205 of the Communications Act of 1934, (“Act”) as amended, 47 U.S.C. 201, 202, 203, 204 and 205, require that common carriers establish just and reasonable charges, practices and regulations which must be filed with the Commission which is required to determine whether such schedules are just, reasonable and not unduly discriminatory. On November 18, 2011, the Commission released the Order, FCC 11-161, published at 76 FR 73830, November 29, 2011, adopting final rules—containing information collection requirements—designed to address arbitrage activities known as access stimulation. The rules generally require competitive carriers and rate-of-return incumbent local exchange carriers (LECs) to refile their interstate switched access tariffs at lower rates if the following two conditions are met: (1) A LEC has a revenue sharing agreement and (2) the LEC either (a) has a three-to-one ratio of terminating-to-originating traffic in any month or (b) experiences more than a 100 percent increase in traffic volume in any month measured against the same month during the previous year.

Federal Communications Commission.
Marlene H. Dortch,
Secretary, Office of the Secretary, Office of Managing Director.

[FR Doc. 2011-31519 Filed 12-7-11; 8:45 am]

BILLING CODE 6712-01-P